DEPARTMENT OF LABOR

Employment and Training Administration

[NAFTA-5218 and TA-W-39,831, TA-W-39,831A]

Chipman Union, Inc., Union Point, Georgia, Chipman Union, Inc., Bryan Scott Plant, Greensboro, GA; Notice of Revised Determination on Reconsideration

By letter dated January 16, 2002, the company, requested administrative reconsideration of the Department's denial of North American Free Trade Agreement-Transitional Adjustment Assistance (NAFTA-TAA) and Trade Adjustment Assistance (TAA), applicable to workers of Chipman Union, Inc., Union Point, Georgia. The denial notice applicable to NAFTA-05218 was signed on December 17, 2001 and the denial notices for TA-W-39,831 and TA-W-39,831A were signed on December 14, 2001. The notices were published in the Federal Register on January 11, 2002, NAFTA-5218 (67 FR 1513); for TA-W-39,831 and TA-W-39,831A (67 FR 1508).

The workers of Chipman Union, Inc., Union Point, Georgia (NAFTA-5218) engaged in activities related to the production of socks were denied NAFTA-TAA because criteria (3) and (4) of the group eligibility requirements of paragraph (a)(1) of section 250 of the Trade Act of 1974, as amended, were not met. A survey of customers indicated that increased imports from Canada and Mexico did not contribute importantly to worker separations. The subject firm did not import socks from Canada or Mexico during the relevant period. There was no shift in the production of socks from the subject firm to Canada or Mexico during the relevant period.

The workers of Chipman Union, Inc., Union Point, Georgia (TA-W-39-831) and Chipman Union, Inc., Bryan Scott Plant, Greensboro, Georgia (TA-W-39-831A) were denied TAA because criterion (3) of the group eligibility requirements of section 222 of the Trade Act of 1974, as amended, was not met. Imports did not contribute importantly to the worker separations during the relevant period.

The request for reconsideration indicates that the company lost a license agreement, which accounted for a major portion of their sales. The request further indicated that the company that was awarded the new license, imported the socks.

The Department contacted the company which was awarded the new license agreement and confirmed that the company that was awarded the license began importing the socks from Canada to the subject firm's domestic customers during the relevant period.

Conclusion

After careful consideration of the new facts obtained on reconsideration, it is concluded that increased imports of socks, including imports from Canada, contributed importantly to the decline in production and to the total or partial separation of workers at Chipman Union, Inc., Union Point, Georgia (NAFTA-5218) and Chipman Union, Inc., Union Point, Georgia (TA-W-39,831) and Chipman Union, Inc., Bryan Scott Plant, Greensboro, Georgia (TA-W-39,831A). In accordance with the provisions of the Act, I make the following revised determination:

“All workers at Chipman Union, Inc., Union Point, Georgia (NAFTA-5218), who became totally or partially separated from employment on or after August 16, 2000, through two years from the date of certification, are eligible to apply for NAFTA-TAA under section 250 of the Trade Act of 1974;” and

“All workers at Chipman Union, Inc., Union Point, Georgia (TA-W-39,831) and Chipman Union, Inc., Bryan Scott Plant, Greensboro, Georgia (TA-W-39,831A), who became totally or partially separated from employment on or after August 6, 2000, through two years from the date of certification, are eligible to apply for adjustment assistance under section 223 of the Trade Act of 1974.

Signed at Washington, DC this 4th day of April, 2002.
Edward A. Tomchick,
Director, Division of Trade Adjustment Assistance.

[FR Doc. 02-10892 Filed 5-1-02; 8:45 am]

BILLING CODE 4510-30-M